DEPARTMENT OF THE INTERIOR

National Park Service

AGENCY: National Park Service, Interior.

ACTION: Notice of Public Hearing; Mojave National Preserve.

SUMMARY: Pursuant to public comment to Federal Register Notice of Realty Action published April 18, 2000 (Volume 65, Number 75, pages 20831-20832) on the exchange of federal property for private property at Mojave National Preserve, this notice announces a public hearing to be held regarding the proposed exchange, at the date, time and place noted below. The hearing is open to the public.

Date: October 11, 2000.

Time: 11 am-2 pm.

Place: Hole in the Wall Visitors Center, Mojave National Preserve.

FOR FURTHER INFORMATION CONTACT: The Offices of the Mojave National Preserve, Barstow, California 92311. Tel. (760) 255-8801.

SUPPLEMENTARY INFORMATION: In order to resolve the encroachment of a private residence and ranch headquarters on federal land, it is necessary for the National Park Service to effect a land exchange at Mojave National Preserve, San Bernardino California. Comments received in response to the Federal Register Notice of Realty Action, included requests for a public hearing on the exchange. National Park Service staff will brief those in attendance at the hearing on the history, purpose, and procedures involved in the exchange. For more detailed information on the proposed exchange, see Federal Register Notice of Realty Action published April 18, 2000 (Volume 65, Number 75, pages 20831-20832).

Dated: September 12, 2000.
Cynthia L. Ip,
Acting Regional Director, Pacific West Region.

[FR Doc. 00-24503 Filed 9-22-00; 8:45 am]

BILLING CODE 4310-70-P